DEPARTMENT OF DEFENSE

Department of the Army

Availability of U.S. Patent Application for Non-Exclusive, Exclusive, or Partially Exclusive Licensing

AGENCY: U.S. Army Soldier and Biological Chemical Command, DoD.

ACTION: Notice.

SUMMARY: In accordance with 35 U.S.C. 209 and 37 CFR Part 404 announcement is made of the availability for licensing of the following U.S. Patent applications for non-exclusive, exclusive, or partially exclusive licensing. The patent applications listed below have been assigned to the United States Government as represented by the Secretary of the Army, Washington, DC.

Title: “Method and Apparatus for Counting Submicron Sized Particles.”

Description: A system for detecting the presence of different size groups of submicron sized particles in a fluid sample collected from the environment. The system includes a collecting apparatus for collecting a fluid sample containing the submicron size particles which include virus and virus-like agents. After the sample is collected, the sample is directed to a means for detecting the submicron size particles wherein the detection apparatus includes an electrospray assembly having an electrospray capillary, a differential mobility analyzer which receives the output from the capillary, and a condensation particle counter for counting and identifying the submicron size particles in the sample.

Patent Application Number: 09/662,787.

Filing Date: September 15, 2000.

Title: “Method and System for Detecting and Recording Submicron Sized Particles.”

Description: A system and method for detecting the presence of submicron sized particles in a sample taken from the environment which includes a means for collecting a sample from the environment and a means for purifying and concentrating the submicron particles in a sample by purifying and concentrating the particles based on size. The purified and concentrated particles are detected with an apparatus which includes an electrospray assembly having an electrospray capillary, a differential mobility analyzer which received the output from the capillary, and a condensation particle device for counting the number of particles that pass through the differential mobility analyzer. The system is intended to collect a sample containing submicron size particles having a size from about 10 to about 350 nanometers and include submicron size particles selected form the group consisting of viruses, prions, macromolecules, protein satellites, and virus fragments. Automated controls can be utilized to control the flow of the sample through the system.

Patent Application Number: 09/662,788.

Filed: September 15, 2000.

FOR FURTHER INFORMATION CONTACT: Mr. John Biffoni, Intellectual Property Attorney, U.S. Army SBCCOM, ATTN: AMSSB-CC (Bldg E4435), APG, MD 21010-5424, Phone: (410) 436-1158; FAX: 410-436-2534 or E-mail:John.Biffoni@ sbccom.apgea.army.mil.

SUPPLEMENTARY INFORMATION: None.

Luz D. Ortiz,
Army Federal Register Liaison Officer.

[FR Doc. 01-12490 Filed 5-16-01; 8:45 am]

BILLING CODE 3710-08-M